DEPARTMENT OF STATE

[Delegation of Authority No. 326 ]

Delegation by the Secretary of State as Chairperson of the Board of the Millennium Challenge Corporation to the Vice President for Compact Implementation

By virtue of the authority vested in me as Chairperson of the Board of Directors of the Millennium Challenge Corporation by Section 18 of Article I of the Bylaws and other relevant provisions of the bylaws and law, including Section 614(d) of the Millennium Challenge Act, 2003, and Section 1(a)(4) of the State Department Basic Authorities Act of 1956, I hereby delegate to Darius Mans, Vice President for Compact Implementation, to the extent authorized by law, the functions, duties and powers of the chief executive officer, to be exercised subject to my direction.

Any authorities covered by this delegation may also be exercised by me and may be redelegated to the extent authorized by law.

This delegation shall enter into effect on July 31, 2009 and shall expire upon the appointment and entry upon duty of a new Chief Executive Officer pursuant to Section 604(b) of the Millennium Challenge Act of 2003.

This delegation of authority shall be published in the Federal Register.

Dated: July 15, 2009/
Hillary Rodham Clinton,
Secretary of State, Department of State.

[FR Doc. E9-19218 Filed 8-10-09; 8:45 am]

BILLING CODE 4710-07-P